DEPARTMENT OF HEALTH AND HUMAN SERVICES

Health Resources and Services Administration

Agency Information Collection Activities: Submission to OMB for Review and Approval; Public Comment Request; Rural Health Care Services Outreach Program Performance Improvement and Measurement Systems Measures, OMB No. 0915-0009—Revision

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period. This proposed information collection was previously published in the Federal Register on November 27, 2017, and allowed 60-days for public comment. No public comments were received.

DATES: Comments on this ICR should be received no later than April 30, 2018.

ADDRESSES: Submit your comments, including the ICR Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Rural Health Care Services Outreach Program Performance Improvement and Measurement Systems (PIMS) Measures.

OMB No.: 0915-0009—Revision.

Abstract: The Rural Health Care Services Outreach (Outreach) Program is authorized by Section 330A(e) of the Public Health Service (PHS) Act (42 U.S.C. 254c(e)), as amended, to “promote rural health care services outreach by expanding the delivery of health care services to include new and enhanced services in rural areas.” The goals for the Outreach Program are as follows: (1) Expand the delivery of health care services in rural communities; (2) deliver health care services through a strong consortium, in which every consortium member organization is actively involved and engaged in the planning and delivery of services; (3) utilize and/or adapt an evidence-based or promising practice model(s) in the delivery of health care services; and (4) improve population health, demonstrate health outcomes and sustainability.

Need and Proposed Use of the Information: The PIMS measures for the Outreach Program enable HRSA and the Federal Office of Rural Health Policy to capture awardee-level and aggregate data that illustrate the impact and scope of federal funding. The collection of this information helps further inform and substantiate the focus and objectives of the grant program. The measures encompass the following topics: (a) Access to care; (b) population demographics; (c) consortium/network; (d) sustainability; and (f) project specific domains.

There are proposed revisions to the previously approved Outreach Program PIMS measures. The proposed Outreach PIMS measures reflect a reduced number of measures including the following: 16 process measures applicable to all awardees (previously 22), consolidation of the project-specific measures (currently 7, previously 8), and 8 clinical measures (previously 9). In addition, the proposed measures include the addition of two Centers for Disease Control and Prevention (CDC) calculators: The CDC Heart Age calculator and the CDC BMI Percentile Calculator for Child and Teen. Data for both calculators will be collected on an aggregate level and only from awardees with applicable projects; the CDC Heart Age calculator is specific to awardees participating in the Health Improvement Special Project while the CDC BMI calculator is for projects focusing on childhood obesity.

Likely Respondents: The respondents would be award recipients of the Rural Health Care Services Outreach Program.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Rural Health Care Services Outreach Program Performance Improvement and Measurement Systems (PIMS) Measures | 25 | 1 | 25 | 3.5 | 87.5
Total | 25 |  | 25 |  | 87.5

Amy McNulty,
Acting Director, Division of the Executive Secretariat.

[FR Doc. 2018-06442 Filed 3-29-18; 8:45 am]

BILLING CODE 4165-15-P